ENVIRONMENTAL PROTECTION AGENCY

[EPA-HQ-OPP-2022-0223; FRL-12433-01-OCSPP]

Chlorpyrifos; Final Cancellation Order for Certain Pesticide Registrations and Amendment of Certain Pesticide Registrations To Terminate Certain Uses

AGENCY: Environmental Protection Agency (EPA).

ACTION: Notice.

SUMMARY: The Environmental Protection Agency (EPA) hereby announces its final cancellation order for the cancellations and amendments to terminate uses voluntarily requested by the registrants and accepted by the Agency, of the chlorpyrifos products listed in Tables 1 and 2 of Unit II, pursuant to the Federal Insecticide, Fungicide, and Rodenticide Act (FIFRA). This final cancellation order follows a notice in the Federal Register of July 15, 2024, that announced EPA's receipt of and sought comments on requests from the registrants in Table 3 of Unit II to voluntarily cancel or amend these product registrations. In the July 15, 2024, notice, EPA indicated that it would issue a final cancellation order implementing the requests, unless the Agency received substantive comments within the comment period that would merit further review of these requests, or unless the registrants withdrew their requests. The Agency received one comment on the notice, which is summarized in Unit III.B. The registrants did not withdraw their requests for these voluntary cancellations and amendments. Accordingly, EPA hereby grants the requested cancellations and amendments to terminate uses as shown in this cancellation order. Any distribution, sale, or use of existing stocks of the products listed in Table 1 and Table 2 of Unit II are subject to the existing stocks provisions in this cancellation order and permitted only in accordance with the terms of this order.

DATES: The cancellations and amendments are effective December 12, 2024.

ADDRESSES: The docket for this action, identified by docket identification (ID) number EPA-HQ-OPP-2022-0223, is available at https://www.regulations.gov. Additional instructions on visiting the docket, along with more information about dockets generally, are available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

This document announces the cancellations and amendments through termination of certain uses, as requested by registrants, of products registered under FIFRA section 3 (7 U.S.C. 136a). These registrations are listed in sequence by registration number in Table 1 and Table 2 of this Unit.

Table 1—Chlorpyrifos Registrations Amended To Terminate Uses
Registration No. | Product name | Company | Terminated uses
19713-505 | Drexel Chlorpyrifos 15G | Drexel | Food uses: Asparagus (except MI), citrus orchard floors (except in AL, FL, GA, NC, SC, TX), Cole crop (Brassica) leafy vegetables, radish, rutabaga, turnip, Bok choy, broccoli, broccoli Raab, Brussels sprout, cabbage, cauliflower, Chinese broccoli, Chinese cabbage, collards, kale, and kohlrabi; corn (field, sweet, corn grown for seed), onions (dry bulb), peanuts, sorghum (grain sorghum—milo), soybeans (except in AL, CO, FL, GA, IA, IL, IN, KS, KY, MN, MO, MT, NC, ND, NE, NM, OH, OK, PA, SC, SD, TN, TX, VA, WI, WV, WY), sugar beets (except in IA, ID, IL, MI, MN, ND, OR, WA, WI), sunflower, sweet potato.
19713-520 | Drexel Chlorpyrifos 4E-AG | Drexel | Food uses: Alfalfa (except in AZ, CO, IA, ID, IL, KS, MI, MN, MO, MT, ND, NE, NM, NV, OK, OR, SD, TX, UT, WA, WI, WY), asparagus (except MI), citrus fruits and citrus orchard floors (except in AL, FL, GA, NC, SC, TX), cranberries, corn (field, sweet, corn grown for seed), cotton (except for AL, FL, GA, NC, SC, VA), figs, grapes, mint (peppermint, spearmint), onions (dry bulb), peanuts, sorghum, soybeans (except for AL, CO, FL, GA, IA, IL, IN, KS, KY, MN, MO, MT, NC, ND, NE, NM, OH, OK, PA, SC, SD, TN, TX, VA, WI, WV, WY), strawberries (except OR), sugar beets (except in IA, ID, IL, MI, MN, ND, OR, WA, WI), sunflowers, sweet potatoes, tree fruits (apples (except in AL, DC, DE, GA, ID, IN, KY, MD, MI, NJ, NY, OH, OR, PA, TN, VA, VT, WA, WV), cherries (except tart cherries in MI), nectarines, peaches (except in AL, DC, DE, FL, GA, MD, MI, NC, NJ, NY, OH, PA, SC, TX, VA, VT, WV), plums, prunes, pears, tree nuts and orchard floor (almonds, filberts, pecans, walnuts), vegetables (Brassica (Cole) leafy vegetables), radish, rutabaga, turnip, broccoli, broccoli Raab, Brussels sprout, cabbage, cauliflower, cavolo broccoli, Chinese broccoli, Chinese cabbage, collards, kale, kohlrabi, mizuna, mustard greens, mustard spinach, rape greens, legume vegetables (succulent or dried; except soybeans), adzuki beans, asparagus bean, bean, blackeyed pea, broad bean (dry and succulent), catjang, chickpea, Chinese long bean, cowpea, Crowder pea, dwarf pea, edible pod pea, English pea, fava bean, field bean, field pea, garbanzo bean, garden pea, grain lupin, green pea, guar, hyacinth pea, jack bean, lima bean (dry and green), kidney bean, lablab bean, lentil, moth bean, mung bean, navy bean, pea, pigeon pea, pinto bean, rice bean, runner bean, southern pea, sugar snap pea, sweet lupin, sword bean, tepary bean, urd bean, wax bean, white lupin, white sweet lupin, yard long bean, and wheat (except spring wheat in CO, KS, MO, MT, ND, NE, SD, WY and winter wheat in CO, IA, KS, MN, MO, MT, ND, NE, OK, SD, TX, WY).
19713-521 | Drexel Chlorpyrifos 15GR | Drexel | Food uses: Asparagus (MI only), citrus orchard floor (except in AL, FL, GA, NC, SC, TX), Cole crop (Brassica) leafy vegetables, radish, rutabaga, turnip, Bok choy, broccoli, broccoli Raab, Brussels sprout, cabbage, cauliflower, Chinese broccoli, Chinese cabbage, collards, kale and kohlrabi; corn (field, sweet, corn grown for seed), onions (dry bulb), peanuts, sorghum (grain sorghum—milo), soybeans (except in AL, CO, FL, GA, IA, IL, IN, KS, KY, MN, MO, MT, NC, ND, NE, NM, OH, OK, PA, SC, SD, TN, TX, VA, WI, WV, WY), sugar beets (except in IA, ID, IL, MI, MN, ND, OR, WA, WI), sunflowers, sweet potato.
19713-573 | Drexel Chlorpyrifos Technical | Drexel | Food uses: Alfalfa (except in AZ, CO, IA, ID, IL, KS, MI, MN, MO, MT, ND, NE, NM, NV, OK, OR, SD, TX, UT, WA, WI, WY), asparagus (MI only), banana, blueberry, caneberry, cherimoya, citrus fruits (except in AL, FL, GA, NC, SC, TX), corn, cotton (except in AL, FL, GA, NC, SC, VA), cranberries, cucumber, date, feijoa, figs, grapes, kiwifruit, leek, legume vegetables (except soybean), mint, onions (dry bulb), pea, peanuts, pepper, pumpkin, sorghum, soybean (except in AL, CO, FL, GA, IA, IL, IN, KS, KY, MN, MO, MT, NC, ND, NE, NM, OH, OK, PA, SC, SD, TN, TX, VA, WI, WV, WY), sunflowers, sugar beets (except in IA, ID, IL, MI, MN, ND, OR, WA, WI), sugarcane, strawberries (except OR), sweet potato, tree fruit (apples (except in AL, DC, DE, GA, ID, IN, KY, MD, MI, NJ, NY, OH, OR, PA, TN, VA, VT, WA, WV), pears, cherries (except tart cherries in MI), plums/prunes, peaches (except in AL, DC, DE, FL, GA, MD, MI, NC, NJ, NY, OH, PA, SC, TX, VA, VT, WV), and nectarines), tree nuts (almonds, filberts, pecans, and walnuts), vegetables (cauliflower, broccoli, Brussels sprouts, cabbage, collards, kale, kohlrabi, turnips, radishes, and rutabagas), and wheat (except spring wheat in CO, KS, MO, MT, ND, NE, SD, WY and winter wheat in CO, IA, KS, MN, MO, MT, ND, NE, OK, SD, TX, WY).
19713-599 | Drexel Chlorpyrifos 4E-AG2 | Drexel | Food uses: Alfalfa (except in AZ, CO, IA, ID, IL, KS, MI, MN, MO, MT, ND, NE, NM, NV, OK, OR, SD, TX, UT, WA, WI, WY), asparagus (except in MI), citrus fruits and orchard floors (except in except in AL, FL, GA, NC, SC, TX), cranberries, corn (field, sweet, and corn grown for seed), cotton (except in AL, FL, GA, NC, SC, VA), figs, grapes, mint (peppermint, spearmint), onions (dry bulb), peanuts, sorghum, soybeans (except in AL, CO, FL, GA, IA, IL, IN, KS, KY, MN, MO, MT, NC, ND, NE, NM, OH, OK, PA, SC, SD, TN, TX, VA, WI, WV, WY), strawberries (except in OR), sugar beets (except in IA, ID, IL, MI, MN, ND, OR, WA, WI), sunflowers, sweet potatoes, tree fruits (apples (except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts and orchard floors (almonds, filberts, walnuts, pecans); vegetables (Brassica (Cole) leafy vegetables), radish, rutabaga, turnip, broccoli, broccoli Raab, Brussels sprout, cabbage, cauliflower, cavolo broccoli, Chinese broccoli, Chinese cabbage, collards, kale, kohlrabi, mizuna, mustard greens, mustard spinach, rape greens; legume vegetables (succulent and dried, except soybean): adzuki beans, asparagus bean, bean, blackeyed pea, broad bean (dry and succulent), catjang, chickpea, Chinese long bean, cowpea, Crowder pea, dwarf pea, edible pod pea, English pea, fava bean, field bean, field pea, garbanzo bean, garden pea, grain lupin, green pea, guar, hyacinth pea, jack bean, lima bean (dry and green), kidney bean, lablab bean, lentil, moth bean, mung bean, navy bean, pea, pigeon pea, pinto bean, rice bean, runner bean, southern pea, sugar snap pea, sweet lupin, sword bean, tepary bean, urd bean, wax bean, white lupin, white sweet lupin, yard long bean; wheat except spring wheat in CO, KS, MO, MT, ND, NE, SD, WY and winter wheat in CO, IA, KS, MN, MO, MT, ND, NE, OK, SD, TX, WY).
19713-671 | Drexel Lambda Fos Insecticide | Drexel | Food uses: Alfalfa (except in AZ, CO, IA, ID, IL, KS, MI, MN, MO, MT, ND, NE, NM, NV, OK, OR, SD, TX, UT, WA, WI, WY), Brussels sprout, corn (field, sweet, and corn grown for seed), cotton (except in AL, FL, GA, NC, SC, VA), sorghum (grain sorghum—milo), soybeans (except in AL, CO, FL, GA, IA, IL, IN, KS, KY, MN, MO, MT, NC, ND, NE, NM, OH, OK, PA, SC, SD, TN, TX, VA, WI, WV, WY), sunflowers, tree fruits (apples [except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts (almonds, filberts, walnuts, pecans); wheat (except spring wheat in CO, KS, MO, MT, ND, NE, SD, WY and winter wheat in CO, IA, KS, MN, MO, MT, ND, NE, OK, SD, TX, WY).
34704-857 | Warhawk | Loveland | Food uses: Alfalfa (except in AZ, CO, IA, ID, IL, KS, MI, MN, MO, MT, ND, NE, NM, NV, OK, OR, SD, TX, UT, WA, WI, WY), asparagus (except in MI), citrus fruits and orchard floors (except in except in AL, FL, GA, NC, SC, TX), Brassica (Cole) crop leafy vegetables, radish, rutabaga, turnip, broccoli, broccoli Raab, Brussels sprout, cabbage, cauliflower, cavolo broccoli, Chinese broccoli, Chinese cabbage, collards, kale, kohlrabi, mizuna, mustard greens, mustard spinach, rape greens; corn (field, sweet, and corn grown for seed), cotton (except in AL, FL, GA, NC, SC, VA), cranberry, fig, grape; legume vegetables (succulent or dried, except soybeans), Adzuki bean, bean, blackeyed pea, broad bean (dry and succulent), catjang, chickpea, cowpea, crowder pea, English pea, field bean, field pea, garden pea, grain lupin, green pea, guar, kidney bean, lablab bean, lentil, lima bean (dry and green), moth bean, mung bean, navy bean, pea, pigeon pea, pinto bean, rice bean, southern pea, sweet lupin, tepary bean, urd bean, white lupin, white sweet lupin; mint (peppermint, spearmint), onion (dry bulb), peanut, sorghum (grain sorghum—milo), soybean (except in AL, CO, FL, GA, IA, IL, IN, KS, KY, MN, MO, MT, NC, ND, NE, NM, OH, OK, PA, SC, SD, TN, TX, VA, WI, WV, WY), strawberry (except in OR), sugar beets (except in IA, ID, IL, MI, MN, ND, OR, WA, WI), sunflower, sweet potato, tree fruits (apples (except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts and orchard floor (almonds, filberts, walnuts, pecans), wheat (except spring wheat in CO, KS, MO, MT, ND, NE, SD, WY and winter wheat in CO, IA, KS, MN, MO, MT, ND, NE, OK, SD, TX, WY).
34704-1077 | Warhawk Clearform | Loveland | Food uses: Alfalfa (except in AZ, CO, IA, ID, IL, KS, MI, MN, MO, MT, ND, NE, NM, NV, OK, OR, SD, TX, UT, WA, WI, WY), asparagus (except in MI), citrus fruits and orchard floors (except in AL, FL, GA, NC, SC, TX), Brassica (Cole) leafy vegetables, radish, rutabaga, turnip, broccoli, broccoli Raab, Brussels sprout, cabbage, cauliflower, cavolo broccoli, Chinese broccoli, Chinese cabbage, collards, kale, kohlrabi, mizuna, mustard greens, mustard spinach, rape greens; corn (field, sweet, and corn grown for seed), cotton (except in AL, FL, GA, NC, SC, VA), cranberry, fig, grape, legume vegetables (succulent or dried, except soybeans), Adzuki bean, bean, blackeyed pea, broad bean (dry and succulent), catjang, chickpea, cowpea, crowder pea, English pea, field bean, field pea, garden pea, grain lupin, green pea, guar, lima bean (dry and green), kidney bean, lablab bean, lentil, moth bean, mung bean, navy bean, pea, pigeon pea, pinto bean, rice bean, southern pea, sweet lupin, tepary bean, urd bean, white lupin, white sweet lupin; mint (peppermint, spearmint), onion (dry bulb), peanut, sorghum (grain sorghum—milo), soybean (except in AL, CO, FL, GA, IA, IL, IN, KS, KY, MN, MO, MT, NC, ND, NE, NM, OH, OK, PA, SC, SD, TN, TX, VA, WI, WV, WY), strawberry (except in OR), sugar beets (except in IA, ID, IL, MI, MN, ND, OR, WA, WI), sunflower, sweet potato, tree fruits (apples (except in AL, DC, DE, GA, ID, IN, KY, MD, MI, NJ, NY, OH, OR, PA, TN, VA, VT, WA, WV), cherries (except for tart cherries in MI), nectarines, peaches (except in AL, DC, DE, FL, GA, MD, MI, NC, NJ, NY, OH, PA, SC, TX, VA, VT, WV), pears, plums, prunes); tree nuts and orchard floor (almonds, filberts, walnuts, pecans), wheat (except spring wheat in CO, KS, MO, MT, ND, NE, SD, WY and winter wheat in CO, IA, KS, MN, MO, MT, ND, NE, OK, SD, TX, WY).
34704-1086 | Match-Up Insecticide | Loveland | Food uses: Citrus orchard floors (except in AL, FL, GA, NC, SC, TX), field corn and sweet corn (grain, silage and corn grown for seed), cotton (except in AL, FL, GA, NC, SC, VA); legume vegetables (succulent or dried, except soybeans), Adzuki bean, bean, blackeyed pea, broad bean (dry and succulent), catjang, chickpea, cowpea, crowder pea, English pea, field bean, field pea, garden pea, grain lupin, green pea, guar, lima bean (dry and green), kidney bean, lablab bean, lentil, moth bean, navy bean, mung bean, pea, pigeon pea, pinto bean, rice bean, southern pea, sweet lupin, tepary bean, urd bean, white lupin, white sweet lupin; peanut, soybean (except in AL, CO, FL, GA, IA, IL, IN, KS, KY, MN, MO, MT, NC, ND, NE, NM, OH, OK, PA, SC, SD, TN, TX, VA, WI, WV, WY).

As noted in Table 1, several food uses are being terminated, except in certain specified states; however, some of the uses identified in the table are not registered in the states excluded from termination. The inclusion of a state specified in Table 1 does not mean that the product is registered for use in the listed states; registration of those uses in additional states must be accomplished through the FIFRA section 3 registration process. Specifically, use on apples is being terminated, except in Idaho, Oregon, and Washington, among other states, on EPA Reg. Nos. 19713-520, 19713-599, 19713-671, 34704-857, and 34704-1077; however, some of the apple uses on those registrations are only permitted in states east of the Rockies. For those apple uses that are currently not permitted in Idaho, Oregon, and Washington, terminating use on apples in those states has no effect. Similarly, use on wheat is being terminated, except in Missouri (spring and winter wheat) or Iowa (winter wheat), on EPA Reg. Nos. 19713-520, 19713-599, 19713-671, 34704-857, and 34704-1077. But because these products are not registered for use on wheat in those states, that termination has no effect. EPA is terminating uses that are registered, except for the uses that are retained where those uses are currently registered.

Table 2—Chlorpyrifos Product Cancellations
EPA registration No. | Product name | Company | Active ingredients
19713-518 | Drexel Chlorpyrifos Concentrate | Drexel | Chlorpyrifos.
19713-527 | Drexel CHLOR-PY-REX Chlorpyrifos Insecticide | Drexel | Chlorpyrifos.
19713-575 | Drexel Chlorpyrifos 99% Technical | Drexel | Chlorpyrifos.

Table 3—Registrants Requesting Voluntary Cancellation or Termination of Chlorpyrifos Uses
EPA company No. | Company name and address
19713 | Drexel Chemical Company Agent name: Lewis and Harrison, 2461 South Clark Street Suite 710, Arlington, VA 22202.
34704 | Loveland Products, Inc. (LPI) 3005 Rocky Mountain Ave, Loveland, CO 80538.

III. Public Comments

A. Brief History

EPA issued a rule in the Federal Register on August 30, 2021 (86 FR 48315) (FRL-5993-04-OCSPP) revoking chlorpyrifos tolerances on the grounds that they were not safe (the “Final Rule”). Once those tolerances expired on February 28, 2022, use of pesticide products containing chlorpyrifos on food or feed crops would result in adulterated food, which could not be sold in interstate commerce. After EPA alerted registrants of chlorpyrifos products of the lack of tolerances and the options for their products, several registrants submitted requests to voluntarily cancel their registered chlorpyrifos products or amend their chlorpyrifos pesticide products to remove food uses.

The registrants identified in Table 3 of Unit II, among others, submitted such requests. Notice of EPA's receipt of these requests was published for comment in the Federal Register on July 15, 2024 (89 FR 57401) (FRL-12081-01-OCSPP). The registrants waived the 180-day comment period for these voluntary requests, EPA provided a 30-day comment period on the proposed requests, and the comment period closed on August 14, 2024.

B. Summary of Comments Received

During the public comment period, EPA received one comment in response to the notice that published in the Federal Register of July 15, 2024. The comment can be found in the docket for this action, identified by docket identification (ID) number EPA-HQ-OPP-2022-0223, available at https://www.regulations.gov and is briefly summarized here.

The comment did not specify the products listed in Table 1 or Table 2 of Unit II but was supportive of the cancellation of the pesticide. The comment stated that the proposed provisions for using existing stocks for food uses until June 30, 2025, would subject workers, bystanders, and consumers to health risks, and were not consistent with FIFRA.

C. EPA Response to Comments

This cancellation action is responsive to registrants' requests to cancel specific products and specific uses. In response to the commenter, under FIFRA section 6(f), registrants may, at any time, seek to cancel their products or seek to amend their registrations to terminate specific uses. Under that provision of the statute, EPA provides an opportunity for public comment and then acts on the request. Cancellation of other products or uses that are not requested by the registrants occurs under other provisions of FIFRA, which is beyond the scope of this action and EPA's authority in FIFRA section 6(f).

EPA determined that the existing stocks provisions are not inconsistent with the purposes of FIFRA, given the limited amount of existing stocks and the limited time allowed for use of the existing stocks outlined in Unit VI. EPA determined that the comment did not merit denial of the registrants' requests for cancellation and amendment.

IV. The Cancellation Order

Pursuant to FIFRA section 6(f) (7 U.S.C. 136d(f)(1)), EPA hereby approves the requested amendments to terminate uses and cancellations of the registrations identified in Table 1 and Table 2 of Unit II, respectively. Accordingly, the Agency hereby orders that the uses identified for the products listed in Table 1 of Unit II are terminated and the product registrations identified in Table 2 of Unit II are cancelled.

The cancellations and amendments addressed in this Order are effective December 12, 2024. Any distribution, sale, or use of existing stocks of the products identified in Tables 1 and 2 of Unit II in a manner inconsistent with any of the provisions for disposition of existing stocks set forth in Unit VI will be a violation of FIFRA.

V. What is the Agency's authority for taking these actions?

Section 6(f)(1) of FIFRA (7 U.S.C. 136d(f)(1)) provides that a registrant of a pesticide product may at any time request that any of its pesticide registrations be cancelled or amended to terminate one or more registered uses. FIFRA further provides that, before acting on the request, EPA must publish a notice of receipt of any such request in the Federal Register and provide a public comment period. EPA has provided the requisite notice and public comment period. One comment was submitted to which EPA has responded above.

VI. Provisions for Disposition of Existing Stocks

Existing stocks for the products identified in this document are those stocks of registered pesticide products that are currently in the United States and that were packaged, labeled, and released for shipment prior to the effective date of the cancellation action. EPA has determined that the following existing stocks provisions are not inconsistent with the purposes of FIFRA given the limited amount of existing stocks and the limited time allowed for use of the existing stocks outlined below.

A. Products Listed in Table 1 of Unit II

• Sale and distribution of existing stocks of Drexel Chlorpyrifos Technical will not be permitted after the final cancellation order is issued.

• Sale and distribution of existing stocks is permitted until April 30, 2025, for the following products:

• Drexel Chlorpyrifos 15G (EPA Reg. No. 19713-505).

• Drexel Chlorpyrifos 4E-AG (EPA Reg. No. 19713-520).

• Drexel Chlorpyrifos 15GR (EPA Reg. No. 19713-521).

• Drexel Chlorpyrifos 4E-AG2 (EPA Reg. No. 19713-599).

• Drexel Lambdafos Insecticide (EPA Reg. No. 19713-671).

• Warhawk (EPA Reg. No. 34704-857).

• Warhawk Clearform (EPA Reg. No. 34704-1077).

• Match-Up Insecticide (EPA Reg. No. 34704-1086).

• Use of existing stocks of the following products on food, food processing sites, and food manufacturing sites must be consistent with the product labeling on those products:

• Drexel Chlorpyrifos 15G (EPA Reg. No. 19713-505).

• Drexel Chlorpyrifos 4E-AG (EPA Reg. No. 19713-520).

• Drexel Chlorpyrifos 15GR (EPA Reg. No. 19713-521).

• Drexel Chlorpyrifos 4E-AG2 (EPA Reg. No. 19713-599).

• Drexel Lambdafos Insecticide (EPA Reg. No. 19713-671).

• Warhawk (EPA Reg. No. 34704-857).

• Warhawk Clearform (EPA Reg. No. 34704-1077).

• Match-Up Insecticide (EPA Reg. No. 34704-1086).

Such use is permitted until June 30, 2025. Use of existing stocks of the products identified in this paragraph for non-food purposes is permitted until existing stocks are exhausted, as long as such use is in accordance with the labeling.

After these dates, sale and distribution of existing stocks will be prohibited, except for export consistent with FIFRA section 17 (7 U.S.C. 136o), or for proper disposal in accordance with state regulations.

B. Products Listed in Table 2 of Unit II

Sale and distribution of existing stocks of Drexel CHLOR-PY-REX Chlorpyrifos Insecticide (EPA Reg. No. 19713-527) and Drexel Chlorpyrifos 99% Technical (EPA Reg. No. 19713-575) will not be permitted after the final cancellation order is issued.

Drexel Chlorpyrifos Concentrate (EPA Reg. No. 19713-518) bears labeling only for non-food use. Therefore, EPA is allowing sale and distribution of existing stocks of those products for one year after publication of the cancellation order. Thereafter, sale and distribution of existing stocks of the product will be prohibited, except for export consistent with FIFRA section 17 (7 U.S.C. 136o), or for proper disposal in accordance with state regulations.

Use of existing stocks is permitted until such stocks are exhausted, provided that use is consistent with the terms of the previously approved labeling on, or that accompanied, the cancelled products.

Authority: 7 U.S.C. 136 et seq.

Dated: December 9, 2024.
Jean Anne Overstreet,
Director, Pesticide Re-Evaluation Division, Office of Pesticide Programs.

[FR Doc. 2024-29272 Filed 12-11-24; 8:45 am]

BILLING CODE 6560-50-P